DEPARTMENT OF COMMERCE

National Oceanic and Atmospheric Administration

[I.D. 052504B]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Habitat Advisory Panel and Habitat/Marine Protected Areas (MPA) Oversight Committee in June, 2004. Recommendations from these committees will be brought to the full Council for formal consideration and action, if appropriate.

DATES: The meeting will be held on Wednesday, June 16, 2004 from 8:30 a.m. to 9:30 a.m. for the Advisory Panel only, then from 9:30 a.m. to 11:30 a.m. jointly with the Oversight Committee and then from 11:30 a.m. until adjourn, the Habitat/MPA Committee will meet.

ADDRESSES: The meeting will be held at the Courtyard by Marriott, 1000 Market Street, Portsmouth, NH 03801; telephone: (603) 436-2121.

Council address: New England Fishery Management Council, 50 Water Street, Newburyport, MA 01950.

FOR FURTHER INFORMATION CONTACT: Paul J. Howard, Executive Director, New England Fishery Management Council; telephone: (978) 465-0492.

SUPPLEMENTARY INFORMATION: The Habitat Advisory Panel will meet separately from 8:30 a.m. to 9:30 a.m. then jointly with the Committee from 9:30 a.m. to 11:30 a.m. to review the scoping comments for the essential fish habitat (EFH) Omnibus Amendment. At 11:30 a.m, the Habitat Committee will meet, and based on the earlier review of the scoping comments for the EFH Omnibus Amendment, will develop recommendations for the Council's consideration regarding the goals and objectives of the Amendment. They will consider a draft Research for Proposals (RFP) for Habitat Areas of Particular Concern proposals and Dedicated Habitat Research Areas proposals. They will develop alternatives to allow shrimp trawling into the Western Gulf Of Maine Habitat Closed Area in Framework 40B to the Multispecies Fishery Management Plan. Also on the agenda will be development of a draft proposal for NOAA Marine Protected Areas Center funding to assist in the development of a Council MPA policy. Other business will be discussed at the discretion of the Committee.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 25, 2004.
Alan D. Risenhoover,
Acting Director, Office of Sustainable Fisheries, National Marine Fisheries Service.

[FR Doc. E4-1227 Filed 5-28-04; 8:45 am]

BILLING CODE 3510-22-S